FEDERAL COMMUNICATIONS COMMISSION

[DA 07-4132]

Consumer Advisory Committee

AGENCY: Federal Communications Commission.

ACTION: Notice.

SUMMARY: The Commission announces the next meeting date and agenda of its Consumer Advisory Committee (“Committee”). The purpose of the Committee is to make recommendations to the Commission regarding consumer issues within the jurisdiction of the Commission and to facilitate the participation of all consumers in proceedings before the Commission.

DATES: The next meeting of the Committee will take place on Friday, November 2, 2007, 9 a.m. to 4 p.m.

ADDRESSES: Federal Communications Commission, 445 12th Street, NW., Room TW-C305, Washington, DC 20554.

FOR FURTHER INFORMATION CONTACT: Scott Marshall, Consumer & Governmental Affairs Bureau, (202) 418-2809 (voice), (202) 418-0179 (TTY), or e-mail scott.marshal@fcc.gov.

SUPPLEMENTARY INFORMATION: On October 10, 2007, the Commission released document DA 07-4132, which announced the agenda, date and time of the next Consumer Advisory Committee meeting. At its November 2, 2007 meeting, the Committee will continue its consideration of digital television (DTV) outreach including a demonstration of converter box technology. The Committee will also consider other consumer issues within the jurisdiction of the Commission. A limited amount of time on the agenda will be available for oral comments from the public.

The Committee is organized under and operates in accordance with the provisions of the Federal Advisory Committee Act, 5 U.S.C. App. 2 (1988). The meeting is open to the public. Members of the public may address the Committee or may send written comments to: Scott Marshall, Designated Federal Officer of the Committee, at the address indicated on the first page of this document. The meeting site is accessible to people with disabilities. Meetings are sign language interpreted with real-time transcription and assistive listening devices available. Meeting agendas are provided in accessible formats.

To request materials in accessible formats for people with disabilities (Braille, large print, electronic files, audio format), send an e-mail to fcc504@fcc.gov or call the Consumer & Governmental Affairs Bureau at 202-418-0530 (voice), 202-418-0432 (TTY).

Federal Communications Commission.
Thomas D. Wyatt,
Deputy Bureau Chief, Consumer & Governmental Affairs Bureau.

[FR Doc. E7-20503 Filed 10-16-07; 8:45 am]

BILLING CODE 6712-01-P